DEPARTMENT OF THE INTERIOR

Bureau of Reclamation

[RR85854000; XXXR4524KS; RR.4888TR11.0040001]

Agency Information Collection Activities; Proposed Collection; Comment Request

AGENCY: Bureau of Reclamation, Interior.

ACTION: Notice.

SUMMARY: The Bureau of Reclamation intends to seek approval of the following proposed information collection: Collection and Compilation of Water Pipeline Field Performance Data. Before submitting the information collection request to the Office of Management and Budget for approval, the Bureau of Reclamation is soliciting public comments on this information collection.

DATES: Submit written comments on the information collection on or before September 12, 2016.

ADDRESSES: Send all written comments to Dr. Lee Sears, Materials and Corrosion Laboratory, 86-68540, Bureau of Reclamation, P.O. Box 25007, Denver, Colorado 80225; or via email to lsears@usbr.gov.

FOR FURTHER INFORMATION CONTACT: To request more information on this information collection, please contact Dr. Lee Sears at 303-445-2392.

SUPPLEMENTARY INFORMATION:

I. Abstract and Background

In accordance with the Paperwork Reduction Act of 1995 (44 U.S.C. 3501 et seq.), this notice announces that the Bureau of Reclamation (Reclamation) has obtained the services of an outside entity to collect data on water pipelines. The information requested is required to comply with a request from Congress for Reclamation to assemble data on pipeline reliability for specific types of pipes.

A Federal Register notice announcing the collection of this information was initiated on February 26, 2014 (79 FR 10842), offering the public a 60-day public comment period. A summary of comments received during the 60-day comment period, disposition of comments, and revised information collection were published in the Federal Register on October 1, 2014 (79 FR 59291), and the public comment period was reopened for another 30 days. In response to the public's request for additional time to comment, a third notice was published in the Federal Register on October 30, 2014 (79 FR 64622), extending the comment period another 30 days. In total, the public was provided 120 days to comment on the ICR. Also at the public's request, all draft supporting documents were made available to the public for consideration.

The contract with Reclamation's previous partners, Battelle and Water Research Foundation, was terminated in July 2015. Reclamation has now obtained the services of Virginia Tech to develop a new survey to collect and assemble data on pipeline reliability.

II. Data

Title: Collection and Compilation of Water Pipeline Field Performance Data.

OMB Control Number: 1006-XXXX.

Description of respondents: Water utility and Federal facility pipe data managers.

Frequency: One-time collection.

Estimated completion time: 10 minutes (making participation decision); 30 minutes (introductory webinar); and 110 minutes (uploading data). The total estimated time is 150 minutes for each respondent.

Estimated Total Number of Respondents: 600 (making participation decision).

Estimated Number of Responses per Respondent: 1.

Estimated Total of Annual Responses: 310.

Estimated Total Annual Burden Hours on Respondents: 100 hours (making participation decision); 155 hours (introductory webinar); and 568 hours (uploading data), for a combined total of 823 hours.

III. Request for Comments

We invite your comments on:

(a) Whether the proposed collection of information is necessary for the proper performance of our functions, including whether the information will have practical use;

(b) the accuracy of our burden estimate for the proposed collection of information;

(c) ways to enhance the quality, usefulness, and clarity of the information to be collected; and

(d) ways to minimize the burden of the collection of information on respondents, including the use of automated collection techniques or other forms of information technology.

We will summarize all comments received regarding this notice. We will publish that summary in the Federal Register when the information collection request is submitted to OMB for review and approval.

IV. Public Disclosure

Before including your address, phone number, email address, or other personal identifying information in your comment, you should be aware that your entire comment—including your personal identifying information—may be made publicly available at any time. While you can ask us in your comment to withhold your personal identifying information from public review, we cannot guarantee that we will be able to do so.

Dated: June 30, 2016.
Richard W. LaFond,
Chief, Civil Engineering Services Division, Bureau of Reclamation.

[FR Doc. 2016-16644 Filed 7-13-16; 8:45 am]

BILLING CODE 4332-90-P